DEPARTMENT OF COMMERCE

National Oceanic and Atmospheric Administration

50 CFR Part 622

[Docket No. 1710319998630-02; RTID 0648-XC946]

Fisheries of the Caribbean, Gulf of Mexico, and South Atlantic; Snapper-Grouper Resources of the South Atlantic; 2023 Red Snapper Commercial and Recreational Fishing Seasons

AGENCY: National Marine Fisheries Service (NMFS), National Oceanic and Atmospheric Administration (NOAA), Commerce.

ACTION: Temporary rule; 2023 fishing seasons notification.

SUMMARY: NMFS announces the limited opening of commercial and recreational red snapper in the exclusive economic zone (EEZ) of the South Atlantic for the 2023 fishing year. This notification announces the 2023 red snapper commercial season opening date and the opening and closing dates for the red snapper recreational season, according to the accountability measures (AMs). This season announcement for South Atlantic red snapper allows fishers to maximize their opportunity to harvest the commercial and recreational annual catch limits (ACLs) while also managing harvest to protect the red snapper resource.

DATES: The 2023 commercial red snapper season opens at 12:01 a.m., local time, July 10, 2023, until 12:01 a.m., local time, January 1, 2024, unless changed by subsequent notification in the Federal Register. The 2023 recreational red snapper season opens at 12:01 a.m., local time, on July 14, 2023, and closes at 12:01 a.m., local time, on July 16, 2023.

FOR FURTHER INFORMATION CONTACT: Mary Vara, NMFS Southeast Regional Office, telephone: 727-824-5305, email: mary.vara@noaa.gov.

SUPPLEMENTARY INFORMATION: The South Atlantic snapper-grouper fishery includes red snapper and is managed under the Fishery Management Plan for the Snapper-Grouper Fishery of the South Atlantic Region (FMP). The South Atlantic Fishery Management Council (Council) prepared the FMP, and the FMP is implemented by NMFS under the authority of the Magnuson-Stevens Fishery Conservation and Management Act (Magnuson-Stevens Act) by regulations at 50 CFR part 622.

For South Atlantic red snapper, the commercial AM requires the sector to close when commercial landings reach or are projected to reach the commercial ACL. The recreational AM is the length of the recreational season, with NMFS projecting the season length based on catch rate estimates from previous years.

The commercial ACL is 124,815 lb (56,615 kg), round weight, and in 2022, NMFS closed the commercial sector on August 31 as a result of the commercial ACL being projected to be met (87 FR 52859, August 30, 2022). The recreational ACL is 29,656 fish, and NMFS has determined that recreational landings are expected to reach the recreational ACL in a 2-day season.

The commercial season for South Atlantic red snapper begins each year on the second Monday in July and closes when the commercial ACL is reached or is projected to be reached. Accordingly, the 2023 commercial season opens on July 10, 2023, and will remain open until 12:01 a.m., local time, on January 1, 2024, unless the commercial ACL is reached or projected to be reached prior to this date. During the commercial fishing season, the commercial trip limit is 75 lb (34 kg), gutted weight. NMFS will monitor commercial landings during the open season, and if commercial landings reach or are projected to reach the commercial ACL, then NMFS will file a notification with the Office of the Federal Register to close the commercial sector for red snapper for the remainder of the fishing year.

The recreational season for South Atlantic red snapper begins on the second Friday in July. Accordingly, the 2023 recreational red snapper season opens at 12:01 a.m., local time, on July 14, 2023, and closes at 12:01 a.m., local time, on July 16, 2023. During the recreational season, the recreational bag limit is one red snapper per person, per day. After the closure of the recreational sector, the bag and possession limits for red snapper are zero.

There is not a red snapper minimum or maximum size limit for the commercial and recreational sectors during the open seasons.

Classification

NMFS issues this action pursuant to section 305(d) of the Magnuson-Stevens Act. This action is required by 50 CFR 622.183(b)(5)(i) and 622.193(y), which were issued pursuant to section 304(b), and is exempt from review under Executive Order 12866.

Pursuant to 5 U.S.C. 553(b)(B), there is good cause to waive prior notice and an opportunity for public comment on this action, as notice and comment would be unnecessary and contrary to the public interest. Such procedures are unnecessary because the rule establishing the red snapper ACLs and AMs has already been subject to notice and comment, and all that remains is to notify the public of the respective commercial and recreational fishing seasons.

In addition, providing prior notice and an opportunity for public comment is contrary to the public interest because the seasons begin in early July and announcing the length of the fishing seasons now allows each sector to prepare for the upcoming harvest, provides opportunity to for-hire fishing vessels to book trips that could increase their revenues and profits, and gives the South Atlantic states the time needed to prepare for their respective data collection needs for the season.

Authority: 16 U.S.C. 1801 et seq.

Dated: May 22, 2023.
Ngagne Jafnar Gueye,
Acting Director, Office of Sustainable Fisheries, National Marine Fisheries Service.

[FR Doc. 2023-11218 Filed 5-22-23; 4:15 pm]

BILLING CODE 3510-22-P